DEPARTMENT OF STATE

[Public Notice: 8770]

Intent To Prepare a Supplemental Environmental Assessment (Supplemental EA) and To Conduct Scoping Consistent With the National Environmental Policy Act of 1969 (NEPA) for Proposed Changes to the NuStar Dos Laredos Pipeline

AGENCY: Department of State.

ACTION: Notice; solicitation of comments.

SUMMARY: NuStar Logistics, L.P. (NuStar) has applied to the U.S. Department of State (Department) for a Presidential Permit to replace a 2003 Presidential Permit issued to Valero Logistics Operations L.P. to construct, connect, operate, and maintain pipeline facilities (the Dos Laredos Pipeline) crossing the international border between the United States and Mexico at a location on the Rio Grande River known as “La Bota,” approximately six miles northwest of downtown Laredo, Texas. Specifically, NuStar requests a Presidential Permit that: (1) Reflects NuStar's name change from Valero Logistics Operations, L.P. to NuStar Logistics, L.P., as the owner and operator of the Dos Laredos Pipeline crossing the international boundary; and (2) expands the types of products that may be transported through the pipeline. The 2003 Presidential Permit only allows shipment of liquefied petroleum gas (LPG), while NuStar now proposes to transport other specifically defined petroleum products, including diesel.

On December 30, 2003, the Department issued a “Finding of No Significant Impact and Summary Environmental Assessment; Valero Logistics LP Pipeline in Webb County, TX,” applicable to the Dos Laredos Pipeline (the 2003 Environmental Finding). In the 2003 Environmental Finding, the Department described the proposed Dos Laredos Pipeline as being designed to transport up to 32,400 barrels (1.36 million gallons) of LPG daily from the United States to Mexico. The Department concluded that issuance of a Presidential Permit authorizing the proposed Dos Laredos Pipeline would have no significant impact on the quality of the human environment within the United States, and further determined that granting a Presidential Permit for the Dos Laredos Pipeline would serve the national interest.

In accordance with the 2003 Environmental Finding and the 2003 Presidential Permit, the Dos Laredos Pipeline was constructed and went into service in 2004. The owner, Valero Logistics Operations, L.P., changed its name to NuStar Logistics, L.P. on April 1, 2007. In June 2011, NuStar temporarily suspended transportation of LPG on the Dos Laredos Pipeline. NuStar has continued to maintain the pipeline with the intent to place the pipeline back into active service in 2014.

On December 4, 2013, NuStar submitted an application to the Department requesting a new Presidential Permit for the Dos Laredos Pipeline. The Department has concluded, consistent with NEPA, that it will prepare a Supplemental EA to determine whether the proposed action may have a significant impact on the human environment.

The purpose of this Notice of Intent is to inform the public about the proposed action, announce plans for determining the scope of the review, invite public participation in the scoping process, and solicit public comments for consideration in establishing the scope and content of the Supplemental EA.

DATES: Submit comments on or before August 4, 2014. The public scoping period starts with the publication of this Notice in the Federal Register on June 20, 2014 and will continue until August 4, 2014. Written and electronic comments will be given equal weight and the Department will consider all comments received or postmarked by August 4, 2014 in determining the scope and content of the Supplemental EA.

ADDRESSES: Parties may submit comments on the scope and content of the Supplemental EA through the Federal eRulemaking Portal (http://www.regulations.gov) by entering the Docket No. DOS-2014-0013 and following the prompts. Written comments should be addressed to: Mr. Travis Grout, U.S. Department of State, 2201 C Street NW., Room 2726, Washington, DC 20520.

Comments are not private. They will be posted on the site http://www.regulations.gov. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

FOR FURTHER INFORMATION CONTACT: Office of Environmental Quality and Transboundary Issues, Attn: Mr. Travis Grout, U.S. Department of State, 2201 C Street NW., Room 2726, Washington, DC 20520. Tel: (202) 647-4284.

Project details and environmental information on the NuStar application for a Presidential Permit, as well as the Presidential Permit process, are downloadable from the following Web site: http://www.state.gov/e/enr/applicant/applicants/index.htm.

SUPPLEMENTARY INFORMATION:

Project Description

The Dos Laredos Pipeline is an 8 and ⅝ inch outer diameter pipeline at the United States-Mexico border that connects the NuStar terminal in Laredo, Texas, with a terminal in Nuevo Laredo, Tamaulipas, Mexico. The U.S. portion of the Dos Laredos Pipeline consists of approximately 10.6 miles of pipeline from the NuStar terminal in Laredo, Texas to the Rio Grande crossing approximately six miles northwest of downtown Laredo, Texas. The Mexican portion consists of approximately 1.5 kilometers of pipeline from the Rio Grande crossing to the Nuevo Laredo terminal.

NuStar has requested authorization to expand the types of products that may be transported through the pipeline to include LPG and other specified petroleum products, including diesel. Specifically, NuStar has requested a Presidential Permit that allows transportation of any petroleum product that, by American Society for Testing Materials test methods,: (1) Substantially distills below 700 degrees Fahrenheit; (2) has a Reid vapor pressure not exceeding 28 pounds at 100 degrees Fahrenheit; and (3) is a color not darker than No. 3. NuStar's request excludes certain petroleum products legally prohibited from being exported by statute or regulation. As stated above, the 2003 Presidential Permit only allows shipment of LPG. No substantial physical changes to the pipeline would be required to transport the expanded range of petroleum products. NuStar expects to transport no more than 24,000 barrels per day of refined petroleum products, in contrast to the 32,400 barrels per day of LPG that the Dos Laredos Pipeline has transported, because of differences in viscosity and flow characteristics. While the proposed operational change in products would require some physical change of pipeline facilities within the U.S. terminal, NuStar is not proposing any construction on the U.S. portion of the Dos Laredos Pipeline facilities outside the fence line of the U.S. terminal and no specific support infrastructure or access roads are necessary or required by state or regional plans with respect to the border-crossing facilities.

The Supplemental EA Process

The Department, consistent with NEPA, will prepare the Supplemental EA to determine whether the approval of a Presidential Permit for NuStar to transport a broader range of petroleum products, including diesel, using the Dos Laredos Pipeline would result in significant impacts to the human environment. The Department will also evaluate reasonable alternatives, including a “no action” alternative, to the proposed project or portions of the project. Below, the Department invites interested parties to submit comments to assist in determining the appropriate scope and content of that Supplemental EA.

The Department will select a Third-Party Contractor to assist with preparation of the Supplemental EA and related tasks. The draft and final Supplemental EA will be prepared under the direction of the Department.

A draft Supplemental EA will be released to the public and distributed to relevant government agencies and stakeholders. Once the draft Supplemental EA is published, all interested parties will have an opportunity to provide specific comments or concerns about the draft Supplemental EA. The Department will consider all timely submissions received about the draft Supplemental EA and will incorporate them, as appropriate, into the final Supplemental EA.

Dated: June 16, 2014.
Deborah Klepp,
Director, Office of Environmental Quality and Transboundary Issues, Department of State.

[FR Doc. 2014-14499 Filed 6-19-14; 8:45 am]

BILLING CODE 4710-09-P